DEPARTMENT OF ENERGY

Federal Energy Regulatory Commission

[Docket No. RM01-5-000]

Electronic Tariff Filings; Notice of Deployment of eTariff Test Sandbox

Take notice that on June 28, 2024, the sandbox to make test filings under the new Version 2 XML schema as described in the June 11, 2024 Notice ¹ was deployed. The test sandbox may be accessed by going to the current eTariff Sandbox page (https://etariff.ferc.gov/TariffSandbox.aspx) and clicking the Open Test Sandbox link at the top of the page. To access the test site directly go to https://etariff.ferc.gov/TariffSandbox2.aspx.

¹ Electronic Tariff Filings, Docket No. RM01-5-000 (Jun. 11, 2024), https://elibrary.ferc.gov/eLibrary/filedownload?fileid=9182EDBA-3B38-CB62-9787-9008C6200000.

As described in the June 11 Notice, the test sandbox will allow eTariff filers to test filings with the applicant's name and tariff records submitted in Microsoft Word and Excel formats.

Dated: June 28, 2024.
Debbie-Anne A. Reese,
Acting Secretary.

[FR Doc. 2024-14776 Filed 7-5-24; 8:45 am]

BILLING CODE 6717-01-P